DEPARTMENT OF JUSTICE

Antitrust Division

Notice Pursuant to the National Cooperative Research and Production Act of 1993—National Armaments Consortium

Notice is hereby given that, on August 18, 2014, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Ace Electronic Defense System, Aberdeen Proving Ground, MD; Applied Minds, LLC, Glendale, CA; C Z and Associates, Inc., Minnetrista, MN; Digital Fusion Solutions, Inc., Huntsville, AL; Hydracore, Inc., Metuchen, NJ; JWF Defense Systems, Johnstown, PA; Laser Techniques Company, LLC, Redmond, WA; Lithchem Energy, Folcroft, PA; National Nanotechnology Manufacturing Center, Inc., Swainsboro, GA; Nostromo LLC, Fairfax, VA; Omnis Inc., McLean, VA; SRC Inc., North Syracuse, NY; The Shenton Group, Inc., Gladwin, MI; Trijicon, Inc., Wixom, MI; Universal Global Products, LLC, Dover, NJ; URS Federal Services, Inc., Germantown, MD; Vistacom Inc., Allentown, PA; and WisEngineering, LLC, Dover, NJ, have been added as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on May 22, 2014. A notice was published in the Federal Register pursuant to Section 6(b) of the Act on June 19, 2014 (79 FR 35186).

Patricia A. Brink,
Director of Civil Enforcement, Antitrust Division.

[FR Doc. 2014-22075 Filed 9-16-14; 8:45 am]

BILLING CODE 4410-11-P